DEPARTMENT OF LABOR

Vacancy Posting: Member of the Administrative Review Board

Summary of Duties: A Member of the Administrative Review Board (the Board) serves in all matters of the Board as assigned, including policy decisions and technology proposals. The incumbent participates in rendering decisions of the Board. Each decision is set forth in a written opinion which sets forth the basis of the decision. The Member of the Board analyzes and evaluates the legal and factual aspects of each case and conducts necessary research. Research includes examination of laws, regulations, procedures as well as prior Board decisions on whistleblower, immigration, child labor, employment discrimination, federal construction, and service contract cases made under other jurisdiction, general statutory, or common law.

Appointment Type: Excepted—The term of appointment is for four years or less and may be extended.

Qualifications: The applicant should be well versed in law and the appeals process, as well as have the ability to interpret regulations and to come to a consensus to determine an overall appeals determination with Members of Board.

To Be Considered: Applicants must provide a detailed resume containing a demonstrated ability to perform as a Member of the Board.

Closing Date: Resumes must be submitted (postmarked, if sending by mail; submitted electronically; or received, if hand-delivered) by 11:59 p.m. EDT on December 9, 2020. Resumes must be submitted to: white.robert.t@dol.gov or mailed to: U.S. Department of Labor, 200 Constitution Avenue NW, ATTN: Division of Executive Resources, Room N2495, Washington, DC 20210, phone: 202-693-2457. This is not a toll-free number.

Dated: October 9, 2020.
Bryan Slater,
Assistant Secretary for Administration & Management.

[FR Doc. 2020-22791 Filed 10-14-20; 8:45 am]

BILLING CODE 4510-HW-P